DEPARTMENT OF HEALTH AND HUMAN SERVICES

Indian Health Service

Organization, Functions, and Delegations of Authority; Indian Health Service Headquarters, Office of Information Technology and the Office of Management Services, Part GAG, GAL

AGENCY: Indian Health Service, Department of Health and Human Services.

ACTION: Final notice.

SUMMARY: This Notice advises the public that the Indian Health Service (IHS) proposes Part GAG, GAL, of the Statement of Organization, Functions, and Delegations of Authority of the Department of Health and Human Services (HHS), 47053-67, December 11, 1987, as amended, November 9, 1995, December 19, 1996, as amended July 12, 2004, as amended, May 6, 2005, as amended October 17, 2005, as amended, August 21, 2009, and most recently December 26, 2018, is hereby amended to reflect a reorganization of the Indian Health Service (IHS). The new organizational structure was approved by the Secretary of Health and Human Services on January 2, 2025. The purpose of this reorganization proposal is to update the current approved IHS, Office of Information Technology (GAG) and the Office Management Services (GAL) in their entirety and replace them with the following:

SUPPLEMENTARY INFORMATION: The IHS is an Operating Division within the Department of Health and Human Services (HHS) and is under the leadership and direction of a Director who is directly responsible to the Secretary of Health and Human Services. The IHS Headquarters is reorganizing the following major component: Office of Information Technology (OIT) and the Office of Management Services (OMS).

Authority: 44 U.S.C. 3101.

Office of Information Technology (OIT) (GAG)

(1) Provides Chief Information Officer (CIO) services and advises the Director, Indian Health Service (IHS), on all aspects of information resource management, information technology (IT), and Health IT; (2) ensures Agency compliance with related Federal statutes, executive orders, regulations, and policies; (3) directs the development, implementation, and maintenance of policies, procedures, standards, and architecture for information resource management, IT, and Health IT activities and services in the IHS; (4) provides IHS Area Offices and Service Units with sufficient training and oversight to manage IT and Health IT responsibilities; (5) directs the IT enterprise architecture, governance, category management, and Artificial Intelligence (AI) programs for the Agency; (6) directs strategic planning and budgeting processes for information resources, IT, and Health IT; (7) oversees the development and implementation of information resource management, IT, and Health IT initiatives in the IHS including the IHS Health IT Modernization Program; (8) directs the design, development, implementation, and support of robust information systems and services used in the IHS; (9) directs the activities of the IHS IT Investment Review Board (ITIRB) in assessing, implementing, and reviewing the Agency's investment in information systems; (10) manages contracts and associated chargebacks for information resource management, IT, and Health IT related software, equipment, and support services in collaboration with appropriate acquisition authorities; (11) through the Chief Information Security Officer, directs the development, implementation, and management of the IHS IT Cybersecurity program to protect the information resources, IT, and Health IT of the IHS; (12) oversees compliance with Federal cybersecurity laws, regulations, and policy and issuance of IHS information security policies, procedures, and guidelines; (13) oversees all aspects of the IHS cybersecurity program including audit compliance, risk and coordination, IHS security architecture and engineering design, and the security-related incident response program, IHS security awareness training programs, IHS information system disaster recovery, contingency planning and response, and cybersecurity vulnerability management; (14) leads the IHS Cybersecurity Operations Center to monitor IT/Health IT systems 24 hours a day, seven days a week; (15) oversees IT systems privacy; (16) provides IT services and support to the IHS, Tribal, and Urban Indian Health Programs (I/T/U), including the Resource and Patient Management System (RPMS), the Electronic Health Record (EHR), and the National Patient Information Reporting System (NPIRS); (17) provides informatics leadership through the Chief Medical Information Officer and Chief Health Informatics Officer to strategically align clinical and technical activities to improve healthcare services; (18) identifies opportunities for improvement of IHS healthcare and public health services through the adoption of new technologies; (19) manages the IHS Health Information Management (HIM) program; (20) oversees the development of IHS HIM policies and practice standardization including issuance of enterprise-wide HIM standard operating procedures; (21) ensures that IHS Area Offices and Service Units have sufficient HIM training and oversight to manage HIM responsibilities; (22) provides guidance on accreditation standards, legislative, and regulatory requirements concerning HIM to ensure IHS compliance; (23) oversees the analyses and management of enterprise data developed, acquired, or stored by the IHS; (24) ensures accessibility to IT services; (25) directs and leads all aspects of IHS IT and Health IT customer experience, OIT self-determination activities, OIT public affairs and communications needs, IT asset management, knowledge management, and service desk activities including the provision of IHS IT and Health IT systems end user support; (26) furnishes IHS-wide video conferencing solutions and services including telehealth support; (27) provides program and project management and related support for IHS-developed and acquired information resources and technology products and services; (28) provides contract management support for information resources, IT, and Health IT initiatives, including strategic sourcing efforts and enterprise wide IT procurements and chargebacks; (29) advises the IHS Director on all aspects of privacy and the IHS-wide privacy program including people, processes, and technologies; (30) ensures compliance with applicable privacy and system of records notice requirements, develops and evaluates privacy statutes, regulations, and policies, and manages privacy risks consistent with the Agency's mission; (31) manages, administers, implements and monitors the IHS's Paperwork Reduction Act and Office of Management and Budget (OMB) information collection/activities, including providing guidance, requirements and procedures for obtaining OMB approvals and/or extensions for IHS information collections; (32) provides leadership and guidance for the IHS Forms Management Program; (33) oversees the IHS Records Management Program through the IHS Records Management Officer; (34) advises the IHS Director on all aspects of records management and provides Agency-wide Records Management Program leadership, guidance and support; (35) ensures the accountability and integrity of records management and disposition of records including litigation holds; (36) develops and recommends policies and procedures for the protection and disposition of IHS records and oversees the evaluation of records management activities in the IHS; (37) develops and implements a management control system for evaluation of records management functions IHS-wide; (38) participates in cross-cutting issues and processes that involve information resources, IT, and Health IT including, but not limited to, emergency preparedness/security, budget formulation, self-determination issues, Tribal shares computations, and resolution of audit findings as may be needed and appropriate; and (39) represents the IHS and enters into IT and Health IT agreements with Federal, Tribal, State and other organizations.

Division of Information Technology (GAGA)

(1) Provides IT services and advises the CIO on all aspects of Health IT; (2) develops and supports clinical and business practice healthcare applications such as the RPMS and the EHR; (3) develops healthcare data export applications to feed analytical processes; (4) obtains system and business requirements from stakeholders for system design; (5) provides quality assurance and risk management for software development; (6) develops, implements, and maintains policies, procedures, and standards for system development and technology products and services in the IHS; (7) develops and maintains Health IT strategic planning documents;

(8) develops and maintains the IHS enterprise architecture; (9) develops and implements Health IT management initiatives in the IHS; (10) ensures the IHS IT infrastructure resource consolidation and standardization efforts support the IHS healthcare delivery and program administration; (11) develops, maintains, and manages the centralized processes and systems that support interoperability between internal and external stakeholders for the transmission and receipt of health information; (12) provides training and documentation for IHS developed software implementation, maintenance, and best practices; (13) provides input into HIM policy and procedures and ensures development activity complies with regulations and policy; (14) ensures development and operation activity complies with applicable security guidance, regulations, and policy; (15) provides program and project management and related support for IHS developed and acquired information resources and technology products and services; (16) provides contract management support for Health IT initiatives; (17) participates in cross-cutting issues and processes that involve IT and Health IT; and (18) represents the IHS to Federal, Tribal, State, and other organizations.

Division of Program Management and Budget (GAGB)

(1) Advises the CIO on all business aspects of information resources, program and project management; (2) develops information resource policies and procedures; (3) develops the IHS IT budget and related documents; (4) provides budget analyses and reports to the CIO; (5) develops strategies for presenting the IHS IT budget to I/T/Us; (6) provides technical analyses, guidance, and support for IHS capital planning and investment control activities; (7) manages the IHS portfolio management tool; (8) manages the activities of the IHS ITIRB in assessing, implementing and reviewing the Agency's information systems; (9) develops program and project management policies and procedures; (10) identifies alternatives among internal and external sources and recommends the best sources to supply information resource and technology products and services to the IHS; (11) develops information resource and technology project governance structures to support effective program and project management; (12) provides and coordinates IHS Healthcare Connect Fund Services under the Rural Health Care Program (RHC), a division of the Universal Service Fund (USF) and administered by the Universal Service Administrative Company (USAC), to offset the high cost of rural telecommunication services; (13) provides IHS Section 508 coordination services; (14) provides Radio Frequency Spectrum Management coordination services; (15) provides contract liaison services to appropriate acquisition authorities; (16) provides program and project management and related support for IHS developed and acquired information resources and technology products and services; (17) provides IT contract management support and manages enterprise-wide IT chargebacks for IT initiatives; (18) participates in crosscutting issues and processes that involve IT and Health IT; and (19) represents the IHS to Federal, Tribal, State, and other organizations.

Division of Information Technology Operations (GAGC)

(1) Advises the CIO on all aspects of implementing and deploying computer systems including RPMS; (2) develops, implements, and maintains IHS standards, policies, and procedures for IT operations; (3) maintains LISTSERV capabilities; (4) performs web monitoring and filtering services; (5) designs and implements websites in compliance with Section 508 of the Rehabilitation Act (29 U.S.C. 794d) accessibility regulations; (6) operates and maintains data centers; (7) provides Domain Name Services; (8) designs, implements, and maintains IHS' backbone network infrastructure; (9) monitors network infrastructure for anomalies; (10) supports enterprise office automation and cybersecurity in Microsoft 365 and subsequent environments; (11) provides program and project management support for systems design and deployment to ensure customer satisfaction; (12) provides contract management support for IT initiatives; (13) participates in crosscutting issues and processes that involve information resources and technology program and project management; and (14) represents the IHS to Federal, Tribal, State, and other organizations.

Microsoft 365 Services Branch (GAGC1)

(1) Manages and maintains Microsoft 365 applications and services Agency-wide; (2) oversees user access, security policies, and compliance within the Microsoft 365 environment; (3) identifies, researches, recommends, and implements Microsoft 365 solutions and applications such as Teams, Office, Outlook, PowerApps, PowerAutomate, Power BI, OneDrive, and SharePoint; (4) develops new applications to improve productivity using the Microsoft Power Platform, Teams, Office, Graph, SharePoint that support integrations with multiple IHS tools and data sets; and (5) builds Artificial Intelligence solutions using Microsoft Copilots and Azure AI.

Division of Information Security (GAGD)

(1) Advises the CIO on all aspects of information security; (2) develops, implements, and monitors the IHS Information Security program to ensure adequate protection and security of information systems; (3) oversees performance of required security activities and serves as the main point of contact for cybersecurity support and guidance; (4) manages IHS cybersecurity audit response and coordination and regularly reviews audit and system log reports; (5) coordinates activities with internal and external organizations reviewing the IHS's information resources for fraud, waste, and abuse; (6) advises the CIO on IHS risk and compliance issues related to information system authorization and accreditation; (7) manages IHS security architecture and engineering design; (8) directs the IHS cybersecurity incident response program; (9) oversees development and maintenance of information security policies, procedures, and guidelines to safeguard information resources, IT, and Health IT systems; (10) develops and implements employee information security awareness training programs; (11) manages the Agency's information system disaster recovery and contingency planning; (12) ensures development and review of IHS IT security plans and information system security documentation with system owners; (13) manages the IHS Cybersecurity Operations Center (CSOC) to monitor IT systems 24 hours a day, seven days a week; (14) serves as the OIT's lead for information system privacy, including development of privacy policies for IT systems and the assessment of privacy controls for IT systems; (15) directs the continuous process of cybersecurity vulnerability management; (16) provides program and project management and related support for IHS-developed and acquired information resources and technology products and services regarding information security; (17) provides contract management support for IT initiatives regarding information security; (18) participates in crosscutting issues and processes that involve information security; and (19) represents the IHS to Federal, Tribal, State, and other organizations regarding information security.

Information Systems Security Officers Branch (GAGD1)

(1) Advises the Division of Information Security (DIS) Director on the security of information systems; (2) develops, recommends, and oversees the implementation of policies, procedures, and standards in support of information systems security; (3) develops and maintains information system security documentation with the system owner; (4) ensures required security activities are performed; (5) regularly reviews audit and system log reports; (6) serves as the main point of contact for cybersecurity support and guidance; and (7) maintains relationships and consults with IHS, Federal, Tribal, State, and other organizations.

Cybersecurity Audit Response and Coordination Branch (GAGD2)

(1) Advises the DIS Director on internal and external audit-related activities; (2) develops, recommends, and oversees the implementation of policies, procedures, and standards in support of audit response and coordination; (3) provides program level support for the tracking and remediation of information system deficiencies and resolution of audit findings as may be needed and appropriate; and (4) maintains relationships and consults with IHS, Federal, Tribal, State, and other organizations.

Cybersecurity Risk and Compliance Branch (GAGD3)

(1) Advises the DIS Director on risk and compliance issues related to information system authorization and accreditation; (2) develops, recommends, and oversees the implementation of policies, procedures, and standards in support of information system authorization and accreditation; (3) assesses the risk and magnitude of harm that could result from unauthorized access, use, disclosure, disruption, modification, or destruction of information and information systems that support the operations and assets of IHS; (4) conducts security assessments of information systems; (5) maintains accreditation documentation for all evaluated information systems; and (6) maintains relationships and consults with IHS, Federal, Tribal, State, and other organizations.

Cybersecurity Architecture and Engineering Branch (GAGD4)

(1) Advises the DIS Director on security architecture and engineering design; (2) develops, recommends, and oversees the implementation of policies, procedures, and standards in support of security architecture and engineering design; (3) manages technical architecture and engineering design projects for security program initiatives; (4) reviews and evaluates evolving technologies; and (5) maintains relationships and consults with IHS, Federal, Tribal, State, and other organizations.

Cybersecurity Incident Response Branch (GAGD5)

(1) Advises the DIS Director on security-related incident response; (2) develops, recommends, and oversees the implementation of policies, procedures, and standards in support of incident response; (3) responds to security-related incidents on the IHS network; (4) provides post-incident reporting and analysis; (5) reviews and evaluates incident response toolsets; and (6) maintains relationships and consults with IHS, Federal, Tribal, State, and other organizations.

Cybersecurity Policy and Security Awareness Branch (GAGD6)

(1) Advises the DIS Director on security policies from internal and external authorities; (2) develops, recommends, and oversees the implementation of policies, procedures, and standards in support of all aspects of information security; (3) maintains awareness of evolving policy and security directive changes from internal and external authorities; (4) develops, maintains, and tracks compliance for the annual information system security awareness training; (5) develops security awareness education and training materials; and (6) maintains relationships and consults with IHS, Federal, Tribal, State, and other organizations.

Disaster Recovery and Contingency Planning Branch (GAGD7)

(1) Advises the DIS Director on information system disaster recovery and contingency planning; (2) develops, recommends, and oversees the implementation of policies, procedures, and standards in support of disaster recovery and contingency planning; (3) develops and maintains information system disaster recovery documentation with the system owner; (4) coordinates testing and execution of disaster recovery plans; (5) reviews and evaluates technologies to support disaster recovery and contingency response capabilities; and (6) maintains relationships and consults with IHS, Federal, Tribal, State, and other organizations.

Cybersecurity Operations Center Branch (GAGD8)

(1) Provides centralized IHS cybersecurity operations support for network monitoring, incident response, cyber threat intelligence collection, and threat information sharing through the Cybersecurity Operations Center; (2) develops, recommends, and oversees the implementation of policies, procedures, and standards in support of the Cybersecurity Operations Center; (3) monitors all IHS networks, systems, and external facing applications and sites to detect suspicious activity 24 hours a day, seven days a week; (4) monitors high-value asset security to ensure mission-critical systems and data are protected; (5) categorizes, prioritizes, and documents security events, including incident alerting and sorting for additional investigation; (6) disseminates patch availability for vulnerabilities and shares advisories across the enterprise; (7) analyzes malware through dynamic and static methods; (8) coordinates incident analysis, correlation, and available response strategies with the Cybersecurity Incident Response Branch; (9) reviews and analyzes threat intelligence to maintain awareness and enhance capabilities; and (10) maintains relationships and consults with the IHS, Federal, Tribal, State, and other organizations.

Cybersecurity Privacy Branch (GAGD9)

(1) Provides oversight and serves as the Agency's lead for privacy of IT Systems including the assessment of privacy controls for IT systems; (2) develops, recommends, and oversees the implementation of policies, procedures, and standards in support of the privacy of IT systems; (3) evaluates IT systems that collect personally identifiable information (PII) and ensures adequate protection of the security and privacy of PII; (4) coordinates privacy impact assessments (PIA) on all IHS IT systems (developmental and operational); (5) maintains IT system PIAs and makes them publicly available; (6) ensures adequate security and privacy practices and safeguards have been incorporated in information system lifecycle plans; and (7) maintains relationships and consults with IHS, Federal, Tribal, State, and other organizations.

Cybersecurity Vulnerability Management Branch (GAGD10)

(1) Manages the continuous process of identifying, assessing, reporting, managing, and remediating security vulnerabilities identified in all software, firmware, and hardware within the IHS; (2) develops, recommends, and oversees the implementation of policies, procedures, and standards in support of security vulnerability management; (3) supports all systems, subsystems, and system components owned by or operated on behalf of IHS with efficient vulnerability assessment techniques, procedures, and capabilities; (4) provides a process for all IHS components to submit both newly discovered and not publicly known vulnerabilities to the Vulnerability Management Team as soon as practicable; (5) conducts vulnerability assessments of IHS's IT infrastructure; and (6) maintains relationships and consults with IHS, Federal, Tribal, State, and other organizations.

Division of Health Information Technology Modernization and Operations (DHITMO) (GAGE)

(1) Advises the CIO on the development, implementation, and maintenance of policies, procedures, and standards for Health IT modernization resources, technology products, and services; (2) oversees engineering, technical architecture, and engineering design projects for Health IT modernization program initiatives; (3) develops and maintains Health IT modernization strategic planning documents; (4) develops and maintains the governance framework to support modernization activities; (5) provides acquisition, IT capital planning and investment control, and contract management support for IT initiatives regarding Health IT; (6) directs modernization system and software testing; (7) provides oversight and management of the modernization test environments; (8) manages and controls IT activities of modernization projects throughout the system development life cycle; (9) develops, deploys, and implements Health IT management initiatives; (10) ensures quality of products, services, and infrastructures of technology modernization supporting IHS healthcare delivery and program administration standards; (11) supports the alignment of technology and business organizational change; (12) provides program and project management support for IHS developed and acquired information resources and technology products and services; (13) provides division administrative support services including human resource acquisition management, performance, and talent development; (14) provides professional communication development, editing, and records management service; (15) assists in the capture of contractor security clearance artifacts and management; (16) participates in crosscutting issues and processes that involve Health IT; and (17) represents the Division to the IHS, Federal, Tribal, State, and other organizations.

Business Management and Capital Planning Branch (GAGE1)

(1) Advises the DHITMO Director on modernization products and services in support of Health IT modernization; (2) develops, recommends, and oversees the implementation of policies and procedures for modernization products and services in support of Health IT modernization; (3) oversees acquisition protocols for modernization products and services in support of Health IT modernization; (4) provides advice, technical consultation, and training to DHITMO staff on project lifecycle cost estimates, acquisition packages, and capital planning and investment control artifacts; (5) manages contracts in support of Health IT modernization; (6) maintains fiscal commitment registers in coordination with Division of Program Management and Budget (DPMB) and the Office of Finance and Accounting; and (7) conducts fund reconciliations in support of the division operating budget.

Program Management Operations Branch (GAGE2)

(1) Advises the DHITMO Director on Health IT modernization program and project management; (2) develops, recommends, and oversees the implementation of policies, procedures, and standards in support of integrated Health IT modernization program and project management practices; (3) defines, integrates, and manages the Health IT modernization governance framework across the Health IT enterprise; (4) provides program and project management oversight, support, and controls of enterprise Health IT modernization projects throughout the system development life cycle; and (5) maintains relationships and consults with the IHS, Federal, Tribal, State, and other organizations.

Architecture and Engineering Branch (GAGE3)

(1) Advises the DHITMO Director on Health IT modernization architecture and engineering design; (2) develops, recommends, and oversees the implementation of policies, procedures, and standards in support of Health IT modernization architecture and engineering design; (3) manages engineering, technical architecture, and engineering design projects for modernization program initiatives; (4) validates requirements and configurations of data structures, interfaces for operational acceptance and implementation; (5) reviews and evaluates evolving IT and HIT product strategy; and (6) maintains relationships and consults with IHS, Federal, Tribal, State, and other organizations.

Organizational Change Management Branch (GAGE4)

(1) Advises the DHITMO Director on Health IT and business initiative organizational change management; (2) develops, recommends, and oversees the implementation of policies, procedures, and standards in support of Health IT and business initiative organizational change management throughout I/T/U healthcare programs; (3) establishes and matures organization change capabilities and documentation baseline; (4) manages the effect of new business processes, new technology, shifting economic landscapes, and changes in organizational structure and culture within the enterprise; (5) plans and manages operational readiness, training, and communication of changes; (6) develops measures to demonstrate benefits of change adoption; (7) manages partner engagement, readiness/deployment, and risk; (8) evaluates and analyzes the I/T/U workforce status, planning, and strategy effort to support Health IT modernization which will impact the entire IHS organization; (9) assesses the baseline (current state) for key functions and capabilities required of the IHS organization impacted by modernization; (10) develops and implements a future state of new functions and capabilities, aligned to competencies and estimated workload of the future; (11) develops and implements a gap analysis to define function and skill gaps that need to be resolved as IHS progresses through modernization; (12) conducts strategic planning, facilitates partner engagement, and manages organizational change management operations; (13) engages with I/T/U healthcare programs to identify opportunities and challenges to incorporate in communications, engagement training, implementation, deployment, and risk/mitigation; (14) assesses and documents lessons learned through deployment and stakeholder feedback; (15) ensures appropriate consideration of the I/T/U environment is incorporated and factored into program planning, implementation, and deployment; and (16) influences change and maintains relationships with IHS, Federal, Tribal, State, and other organizations.

Deployment Branch (GAGE5)

(1) Advises the DHITMO Director on modernization enterprise deployment activities; (2) develops, recommends, and oversees the implementation of policies, procedures, and standards in support of modernization enterprise deployment activities; (3) plans, manages, and controls IT deployment projects throughout the system development life cycle; (4) analyzes alternative deployment strategies and selects or develops deployment strategy; (5) ensures operational environment is established and ready to accept the deployed solution (facilities, infrastructure, trained staff, help desk, etc.); (6) serves as the primary point of contact to end-users on matters related to deployment management; (7) directs the solution delivery schedule; (8) deploys, installs, and activates software and hardware which has passed all stages of verification and tests; (9) establishes solution performance targets and assesses performance of deployed or phased roll-outs against performance targets; (10) liaises between I/T/U users, system administrators, and application development staff to support the implementation of technology; and (11) maintains relationships and consults with IHS, Federal, Tribal, State, and other organizations.

Product Management Branch (GAGE6)

(1) Advises the DHITMO Director on the strategy, design, configuration, and optimization of software products of the IHS EHR; (2) evaluates solution functional workflows, feature releases, and application configurations; (3) maintains enterprise application configuration baselines; (4) validates new application features and functionality for impact to established baselines; (5) advises and maintains relationships with EHR clinical and business end-users, clinical advisory groups, and clinician users of all disciplines on product functionality and engages with engineering teams; (6) ensures application capabilities are aligned to regulatory requirements and standards for Certified Health Information Technology; (7) contributes to the development of enterprise policy and guidance; (8) monitors application performance and patterns associated with functionality for human-centered design and best practices; (9) researches and documents EHR clinical and business functionality change requests on behalf of change control boards, governance bodies, and project teams; and (10) implements program/project initiatives for improving software functionality, programmatic internal controls, and program reporting.

Division of Enterprise Governance and Architecture (GAGG)

(1) Advises the CIO on all aspects of IT governance and enterprise architecture; (2) establishes and maintains a robust enterprise architecture program that enhances the value of IT and Health IT used in support of the IHS mission; (3) develops, implements, and maintains policies, procedures, and standards for enterprise governance and architectural strategy in the IHS to support IHS healthcare delivery and program administration; (4) leads the development of the IHS IT Strategic plan and participates in organizational strategic planning to ensure IT and Health IT systems support IHS goals, mission, and objectives; (5) provides Category Management services to ensure compliance with Federal mandates and to enact standardizations of hardware, software, and technical support contracts; (6) develops, implements, and maintains policies, procedures, and standards for optimal development, management, and use of information resource management and technology products, data, and services within the IHS; (7) performs analysis of business structure and processes and addresses Agency goals through the refinement of the IHS enterprise architecture; (8) establishes and guides the evolution of the IHS's business, systems, and technologies; (9) develops the holistic view of the IHS's environment and its dependencies to address a planned and improved, but not yet realized condition of processes, operations, or technologies through enterprise-wise standards and organizational governance; (10) provides program and project management and related support for IHS developed and acquired information resources and technology products and services; (11) provides contract management support for enterprise-wide IT contracts and acquisitions; (12) drives implementation of the IHS Artificial Intelligence (AI) strategy, stands up the IHS AI governance structure, coordinates the IHS response to AI-related federal mandates, and fosters collaboration across the IHS; (13) participates in crosscutting issues and processes that involve IT and Health IT; and (14) represents the IHS to Federal, Tribal, State, and other organizations.

Division of Data Management and Analytics (GAGH)

(1) Advises the CIO on all aspects of enterprise data developed, acquired, or stored by the IHS; (2) develops, implements, and maintains policies, procedures, and standards for data acquired, managed, manipulated, and stored in the enterprise-wide IT and Health IT systems of the IHS; (3) develops long-term strategies for optimal development, management, and use of data within the IHS; (4) develops and deploys Agency-wide data and analytical platforms and tools, as well as a future roadmap that supports and anticipates stakeholder needs; (5) develops and matures the IHS data ecosystem, including the development of enterprise data solutions, services, policies, and processes; (6) promotes data as an Agency asset and transforms the Agency into a data-driven organization; (7) develops and matures the IHS enterprise-wide analytical capabilities including the development of artificial intelligence and real-time dash-boarding capabilities; (8) develops, acquires, maintains and supports the organizational-level data acquired, managed, manipulated, secured and stored in the enterprise-wide IT and Health IT systems of the IHS; (9) develops data policies and determines the best way to leverage the data that is collected internally and is available externally; (10) aligns data/data governance in accordance with the Enterprise Architecture framework; (11) liaisons with Data Stewards, Privacy, and other stakeholders to define/enforce data privacy and security rules; (12) manages enterprise data models, metadata catalogs, glossaries, dictionaries and lineage, in alignment with the International Organization for Standardization (ISO) best practices; (13) provides program and project management and related support for IHS-developed and -acquired information resources and technology products and services; (14) provides contract management support for IT initiatives; (15) participates in cross-cutting issues and processes that involve IT and Health IT; and (16) represents the IHS to Federal, Tribal, State, and other organizations.

Division of Customer Experience (DCX) (GAGJ)

(1) Advises the CIO and Deputy CIO on all aspects of IHS IT and Health IT customer experience, OIT public affairs and communications needs, IT asset management, knowledge management, and service desk activities; (2) oversees development, implementation, and maintenance of DCX policies and procedures; (3) directs the development and implementation of Agency initiatives that improve customer relations, experiences, and communication with OIT, Federal partners, Tribes, and Urban Indian organizations; (4) leads performance improvement initiatives that follow human-centered design principles to improve customer relations, customer experience, and internal user experience; (5) oversees planning, coordination, and execution of all OIT internal and external communications and public affairs; (6) manages OIT self-determination activities including development, maintenance, and publication of the OIT Service Catalog, OIT Programs, Functions, Services, and Activities, and Tribal Leader/Urban Indian Organization Leader correspondence; (7) represents OIT at Tribal Delegation Meetings, Tribal conferences, and other forums internal and external to IHS to present OIT's program, services, functions, and activities (PSFAs) and Tribal shares and develops remediation plans for resolution of Tribal issues for OIT senior leadership; (8) oversees lifecycle management of enterprise information resources and technology products including application software, hardware and peripherals; (9) coordinates with DHITMO for emerging EHR support needs and revisions to workflows; (10) oversees IHS-wide Service Desk operations; (11) centralizes the DCX knowledge management system across OIT; (12) directs specialized projects to solve IT and Health IT procurement problems for customers; (13) manages end user and IT employee training and education; (14) provides contract management support for IT initiatives; (15) manages the DCX budget, human resources, performance management, and strategic planning; (16) participates in cross-cutting issues and processes that involve IT and Health IT; and (17) represents the IHS to Federal, Tribal, State, and other organizations.

Information Technology Customer Experience Branch (GAGJ1)

(1) Advises the DCX Director on improvements to IT and Health IT products, solutions, and services to improve the customer experience; (2) develops, recommends, maintains, and implements OIT customer experience policies and procedures; (3) collects and analyzes quantitative and qualitative data to capture Voice of the Customer and creates process flows from the IT and Health IT customer's perspective (e.g., journey maps and personas); (4) collects business requirements and sustains IT and Health IT service contracts between IHS and Area offices; (5) develops and integrates continuous improvement approaches and methodologies to enhance the IT and Health IT customer experience; (6) identifies opportunities to streamline processes and eliminate bottlenecks impacting the IT and Health IT customer experience and internal user experience; (7) prioritizes high-value and high-impact IT and Health IT customer experience initiatives; (8) defines goals and metrics to identify trends and better understand the IT customer experience; (9) manages technology and process changes, including cost, schedule, quality, risk, stakeholder management, and organization change; (10) manages complex customer cases and resolves requests the Service Desk cannot address; (11) participates in resolution of cross-cutting issues and processes that involve IT and Health IT customer experiences; and (12) represents the DCX to Federal, Tribal, State, and other organizations.

Information Technology Communications Branch (GAGJ2)

(1) Advises the DCX Director on OIT internal and external communications and public affairs activities; (2) develops, recommends, maintains, and implements OIT communications policies and procedures; (3) directly supports all OIT public affairs and communications needs in coordination with IHS Public Affairs and Executive Secretariat; (4) directly supports all OIT Tribal Consultation/Urban Confer communications and congressional engagement communication needs; (5) communicates IT and Health IT initiatives and associated changes, including the management of customer engagement and communication strategies; (6) ensures broad dissemination of IT and Health IT Service changes and information campaigns; (7) manages communications and messaging for cross-cutting issues and processes that involve IT and Health IT; (8) identifies IHS IT/Health IT training needs; (9) in coordination with other OIT organizations, plans and executes end user and IT employee training and education for both compliance and uptake of new IT capabilities; and (10) represents the DCX to Federal, Tribal, State, and other organizations.

Information Technology Asset Management Branch (GAGJ3)

(1) Advises the DCX Director on IT asset management including software, hardware, and peripheral assets; (2) develops, recommends, maintains, and implements OIT IT asset management policies and procedures; (3) provides efficient, transparent, and timely support to leverage, and manage enterprise software and hardware solutions; (4) tracks and projects enterprise requirements for software, mobile devices, hardware, and peripheral needs according to the lifecycle plan of each product; (5) identifies customer requirements for end-user hardware, peripherals, and software; (6) manages the acquisition and administration of enterprise-wide computer programs and applications, including software licenses, operating systems, hardware, peripheral equipment, and mobile devices; (7) administers, installs, and maintains enterprise-wide desktop application software; (8) administers, installs, and maintains enterprise-wide computer hardware, peripheral equipment, operating systems, and mobile devices, including enterprise-level preparation of end-user equipment; (9) maintains and publishes the OIT Service Catalog; (10) maintains and serves as the OIT repository for IT service level agreements; (11) maintains and serves as an OIT repository for Authority to Operate (ATO) certificates for solutions and services in the OIT Service Catalog; (12) manages accountability for IT property throughout the IHS; and (13) represents the DCX to Federal, Tribal, State, and other organizations.

Information Technology Knowledge Management Branch (GAGJ4)

(1) Advises the DCX Director and Deputy CIO on knowledge management activities; (2) develops, recommends, maintains, and implements OIT knowledge management policies and procedures; (3) ensures OIT adherence to information handling policies and supports user information and file organization, sharing, and storage; (4) analyzes and improves the efficiency and transparency of OIT enterprise services and knowledge management framework and services; (5) collaborates with all OIT organizations to promote the use of the organization's knowledge assets; (6) develops and maintains end-user backup systems, including SharePoint development, data tagging, archiving, and automatic cloud backup of end-user data; (7) develops software documentation for end users; (8) creates self-service articles for multiple applications; (9) manages and coordinates IT professional development training for OIT staff; (10) conducts reviews, develops reports, and alerts organizational users on training updates; and (11) represents the DCX to Federal, Tribal, State, and other organizations.

Service Desk Operations Branch (GAGJ5)

(1) Advises the DCX Director on Service Desk activities; (2) develops, recommends, maintains, and implements OIT service desk operations policies and procedures; (3) manages national and Headquarters service desk requests and tickets; (4) delivers IHS service desk support 24 hours a day, seven days a week; (5) provides a single point of contact (SPOC) for end-user computer systems and associated hardware and operating systems service requests and their resolution; (6) provides a SPOC for end-user EHR, desktop, and office automation software service requests and their resolution; (7) builds and maintains an IT Infrastructure Library (ITIL) used as a knowledge base and self-service portal for customers; (8) proactively detects and solves complex reoccurring incidents and improves processes through development of action plans to address future incidents; (9) provides service desk metrics on the team's effectiveness, including a variety of key performance indicators such as calls per service desk technician, first call resolution, turnaround time, and client satisfaction; (10) provides end user telecommunications support; (11) furnishes IHS-wide video conferencing solutions and services; (12) collaborates with other DCX branches to identify and implement business process improvement processes; and (13) represents the DCX to Federal, Tribal, State, and other organizations.

Office of Management Services (OMS) (GAL)

(1) Advises the IHS Director on all aspects of the management of grants, acquisitions, personal property and fleet management, Indian Health Manual (IHM) directives, and the regulations program, inclusive of Freedom of Information Act (FOIA) requests, and provides Agency-wide guidance and support for these programs; (2) formulates, administers, and coordinates the review and analysis of IHS-wide policies in the IHM, including delegations of authority, and provides guidance on development; (3) develops and oversees the implementation of policies, procedures and delegations of authority for the IHS, including IHS grants management activities, and grants added to self-governance compacts; (4) ensures that IHS policies and practices for the administrative functions identified above are consistent with applicable regulations, directives and guidance from higher echelons in the HHS and other Federal oversight agencies; (5) advises the IHS Director on regulatory issues related to the IHS; (6) provides overall coordination and leadership for policies, services, including the continuity of operations plans, deployment, and public health infrastructure for the IHS Headquarters (HQ) emergency preparedness plans consistent with those of the Department of Homeland Security and the HHS, addressing the IHS mission critical elements of emergency plans; (7) provides leadership and direction of activities for continuous improvement of management accountability and administrative systems for effective and efficient program support services IHS-wide; (8) ensures the accountability and integrity of grants and acquisition management, personal property utilization and disposition of IHS resources; (9) oversees and administers the Agency FOIA activities; (10) participates in cross-cutting issues and processes, including but not limited to, quality assurance, internal controls, recruitment, budget formulation, and resolution of audit findings as may be needed and appropriate; (11) coordinates with HQ Offices on the development of emergency preparedness plans, policies, and services, including the continuity of operations plans, deployment, and public health infrastructure, as appropriate; (12) provides support with approvals and adherence to policies for HQ regarding Agency conference and meeting approvals; (13) assures that the IHS OMS services, policies, procedures, and practices support IHS Indian Self-Determination Act policies; and (14) oversees and coordinates the annual development and submission of the Agency's Federal Activities Inventory Reform Act report to the HHS.

Division of Asset Management (DAM) (GALA)

(1) Plans, develops, and administers the IHS personal property and supply management program in conformance with Federal personal property management laws, regulations, policies, procedures, practices, and standards; (2) interprets regulations and provides advice on execution and coordination of personal property and supply management policies and programs; (3) administers management systems and methods for planning, utilizing, and reporting on personal property and supply programs, including the precious metals recovery program and IHS personal property and supply accountability and control systems; (4) provides guidance and serves as principal administrative authority for IHS on Federal personal property and supply management laws, regulations, policies, procedures, practices, and standards; (5) conducts surveys and studies involving evaluation and analysis of the personal property and supply management activities IHS-wide; (6) maintains liaison with the HHS and the General Services Administration (GSA) on personal property and supply management issues and programs affecting the IHS; (7) plans, develops and administers the IHS Fleet Management Program; (8) prepares reports on IHS personal property and supply management activities; and (9) administers the local HQ personal property management program to include receiving, tagging, storage and disposal in addition to conducting the annual inventory for all HQ locations.

Division of Administrative and Emergency Services (DAES) GALB

(1) Administers physical security, facility management, space management services, parking management, the IHS mail and commercial printing programs, and Homeland Security Presidential Directive 12 (HSPD-12) badge issuance for HQ; (2) serves as point of contact with the HHS, Administration for Strategic Preparedness and Response (ASPR)/Secretary's Operation Center, and the GSA on logistics and issues affecting the IHS; (3) plans, develops and administers the Mail and Commercial Printing Programs; (4) provides leadership, development, and execution of special HQ office support projects for office relocations, and inter-and intra-Agency activities; (5) coordinates with OIT to provide telecommunication services to HQ; (6) administers Physical Security, Facility Management, Space Management Services, Telecommunication Services, and Parking Management within HQ; (7) provides overall coordination and leadership for the IHS HQ emergency preparedness plans consistent with those of the Department of Homeland Security and HHS, addressing the IHS mission critical elements of emergency plans; (8) provides leadership for the development of emergency preparedness plans, policies, and services, including the continuity of operations plans, deployment, and public health infrastructure; (9) coordinates IHS HQ with the IHS Area Offices activities and available resources of other government and non-government programs for essential services related to homeland security and emergency preparedness; (10) coordinates periodic national emergency preparedness exercises with the HHS and Area Offices; (11) maintains and administers the HQ emergency preparedness equipment including the office-site and alternative locations; (12) advocates for the emergency preparedness needs and concerns of American Indian and Alaska Native (AI/AN) and promotes these program activities at the local, state, national, and international levels; and (13) serves as an information gathering and dissemination point for local and national emergency preparedness information including situational awareness.

Division of Acquisition Policy (DAP) (GALC)

(1) Manages all aspects of the Agency's acquisition program in accordance with Federal acquisition regulations, policies, and initiatives; (2) manages all aspects of the Agency's acquisition program consistent with Federal acquisition regulations, policies, initiatives, and guidance from higher echelons in HHS and Federal oversight agencies; (3) advises the OMS Director, Deputy Director for Management Operations, and other senior staff of proposed legislation, regulations, and directives that affect contracting in the IHS; (4) provides leadership for compliance reviews of all IHS acquisition operations and oversees completion of necessary corrective actions; (5) collaborates on Agency conference management specific to acquisitions or contracts; (6) manages the Agency's acquisition workforce training and certification programs; (7) manages the IHS Contract Information System and controls entry of data into HHS Contract Information System; (8) serves as the IHS contact point for contract protests and HHS contact for contract-related issues; (9) oversees and implements the agency's contract planning, solicitation, review, negotiation, award, post-award administration, and contract closeout activities; (10) processes unsolicited proposals for the IHS; (11) coordinates the IHS Small Business programs; (12) oversees compliance with the Buy Indian Act; (13) manages the Agency's Government Purchase Card (GPC) program; and (14) manages and oversees compliance and oversight of all acquisition operations activities within the Agency.

Division of Grants Management (DGM) (GALD)

(1) Directs grants management and operations for the IHS; (2) authorizes, awards and administers discretionary grants and cooperative agreements for IHS financial assistance programs; (3) provides guidance for the resolution of audit findings for grant programs; (4) manages the IHS grants training and certification program; (5) continuously assesses grants operations; (6) oversees implementation of corrective action plans for recipients receiving IHS discretionary grant support; (7) reviews and makes recommendations for improvements in current grantee and potential grantee management systems; (8) serves as the IHS liaison to HHS Office of Grants and the public for discretionary grants and cooperative agreements authorized by the IHS; (9) maintains the SAM.gov Assistance Listings (formerly the Catalog of Federal Domestic Assistance) for IHS financial assistance programs; (10) provides guidance technical assistance, grants-related training and assistance for IHS staff, grantees, and applicants; (11) liaison to the HHS Quality Service Management Office (QSMO) for Grants; (12) controls data entry into the grant award system; (13) maintains the official, electronic grant files for funded grants and controls data entry into the grant award system; (14) maintains the official, electronic grant files for funded grants; (15) coordinates payment to scholarship recipients in coordination with the Division of Health Professions Support Office of Human Resources; (16) manages the clearance and approval process for all IHS grant funding notices in Grants.gov; and (17) reviews and coordinates inter- and intra-agency agreements as well as Memoranda of Understanding in collaboration with HQ Offices.

Division of Regulatory and Policy Coordination (DRPC) (GALE)

(1) Manages the IHS's overall regulations program and responsibilities, including determining the need for and developing plans for changes in regulations, developing or assuring the development of needed regulations, and maintaining the various regulatory planning processes; (2) serves as IHS liaison with the Office of the Federal Register (FR) on matters relating to the submission and clearance of documents for publication in the FR; (3) assures proper Agency clearance and processing of FR documents; (4) informs management and program officials of regulatory activities of other Federal agencies; (5) advises the OMS Director on such matters as regulations, related policy issues, and administrative support issues; (6) manages the retrieval and transmittal of information in response to requests received under the FOIA, in collaboration with the Public Affairs Staff; (7) coordinates with Office of General Counsel (OGC) to determine disclosure or deny release of IHS records under FOIA; (8) coordinates requests for information with the Area FOIA coordinators; (9) identifies and informs the IHS Privacy Officer of FOIA related difficulties across the IHS; (10) ensures the security of sensitive and/or confidential information when responding to FOIA issues; (11) researches and applies legal determinations to respond requests and releasable material; (12) maintains and updates various regulatory agendas; (13) formulates, administers, and supports IHS-wide policies, delegations of authority, and organizations and functions development; (14) provides leadership, on behalf of the IHS Director, to functional area managers at IHS HQ in developing, modifying, and overseeing the implementation of IHS policies and procedures; (15) provides analysis, advisory, and assistance services to IHS managers and staff for the development, clearance, and filing of IHS directives and delegations of authority; (16) serves as principal advisor and source for technical assistance for establishment or modification of organizational infrastructures, functions, and Standard Administrative Code configurations; (17) advises the IHS Director and serves as liaison with OGC on such matters as litigation, regulation, related policy issues, and administrative support issues; and (18) ensures the security of sensitive and/or confidential information when responding to FOIA and other regulatory issues.

Section GA-40, Indian Health Service—Delegations of Authority

All delegations of authority and re-delegations of authority made to IHS officials that were in effect immediately prior to this reorganization, and that are consistent with this reorganization, shall continue in effect pending further re-delegation.

Xavier Becerra,
Secretary of Health and Human Services.

[FR Doc. 2025-00535 Filed 1-17-25; 8:45 am]

BILLING CODE 4166-14-P